DEPARTMENT OF THE INTERIOR

National Park Service

[NPS-WASO-NAGPRA-NPS0034906; PPWOCRADN0-PCU00RP14.R50000]

Notice of Inventory Completion: Arizona State Museum, University of Arizona, Tucson, AZ

AGENCY: National Park Service, Interior.

ACTION: Notice.

SUMMARY: In accordance with the Native American Graves Protection and Repatriation Act (NAGPRA), the Arizona State Museum (ASM) has completed an inventory of human remains and an associated funerary object and has determined that there is a cultural affiliation between the human remains and associated funerary object and Indian Tribes or Native Hawaiian organizations in this notice. The human remains and associated funerary object were removed from Pima County, Arizona.

DATES: Repatriation of the human remains and associated funerary objects in this notice may occur on or after December 23, 2022.

ADDRESSES: Cristin Lucas, Repatriation Coordinator, Arizona State Museum, University of Arizona, P.O. Box 210026, Tucson, AZ 85721-0026, telephone (520) 626-0320, email lucasc@arizona.edu.

SUPPLEMENTARY INFORMATION: This notice is published as part of the National Park Service's administrative responsibilities under NAGPRA. The determinations in this notice are the sole responsibility of ASM. The National Park Service is not responsible for the determinations in this notice. Additional information on the determinations in this notice, including the results of consultation, can be found in the inventory or related records held by the ASM.

Description

Human remains representing, at minimum, one individual were removed from site AZ BB:14:1(ASM) in Pima County, AZ. The site was first recorded in 1925 by an archeology field class under the direction of Byron Cummings with the University of Arizona (UA). Permitted excavation was subsequently conducted in 1927 by Edward John Hands under the direction of the UA. Collections from these field seasons were brought to ASM following fieldwork; no accession number was assigned. In 1941, ASM loaned to the Harvard Peabody Museum of Archaeology and Ethnology (Peabody) a ceramic cremation vessel containing cremated human remains that had been removed from site AZ BB:14:1(ASM). The human remains and vessel remained at the Peabody until 2021 when they were recalled by ASM. No known individual was identified. The one associated funerary object is a ceramic cremation vessel.

Cultural Affiliation

The human remains and associated funerary object in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, linguistic, and oral traditional.

Determinations

Pursuant to NAGPRA and its implementing regulations, and after consultation with the appropriate Indian Tribes and Native Hawaiian organizations, ASM has determined that:

• The human remains described in this notice represent the physical remains of one individual of Native American ancestry.

• The one object described in this notice is reasonably believed to have been placed with or near individual human remains at the time of death or later as part of the death rite or ceremony.

• There is a relationship of shared group identity that can be reasonably traced between the human remains and associated funerary object described in this notice and the Ak-Chin Indian Community (previously listed as Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 23, 2022. If competing requests for repatriation are received, the ASM must determine the most appropriate requestor prior to repatriation. Requests for joint repatriation of the human remains and associated funerary objects are considered a single request and not competing requests. ASM is responsible for sending a copy of this notice to the Indian Tribes and Native Hawaiian organizations identified in this notice.

Authority: Native American Graves Protection and Repatriation Act, 25 U.S.C. 3003, and the implementing regulations, 43 CFR 10.9, 10.10, and 10.14.

Dated: November 16, 2022.
Melanie O'Brien,
Manager, National NAGPRA Program.

[FR Doc. 2022-25572 Filed 11-22-22; 8:45 am]

BILLING CODE 4312-52-P